DEPARTMENT OF COMMERCE

National Oceanic and Atmospheric Administration

RIN 0648-XG969

Atlantic Coastal Fisheries Cooperative Management Act Provisions;

General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Commercial Fisheries Research Foundation contains all of the required information and warrants further consideration. This permit would facilitate research on the impact of increasing water temperature on female lobster size at maturity and growth.

Regulations under the Magnuson-Stevens Fishery Conservation and Management Act and the Atlantic Coastal Fisheries Cooperative Management Act require publication of this notice to provide interested parties the opportunity to comment on applications for proposed Exempted Fishing Permits.

DATES: Comments must be received on or before May 1, 2019.

ADDRESSES: You may submit written comments by any of the following methods:

• Email: NMFS.GAR.EFP@noaa.gov. Include in the subject line “Comments on CFRF Lobster Size at Maturity EFP.”

• Mail: Michael Pentony, Regional Administrator, NMFS, Greater Atlantic Regional Fisheries Office, 55 Great Republic Drive, Gloucester, MA 01930. Mark the outside of the envelope “Comments on CFRF Lobster Size at Maturity Study.”

FOR FURTHER INFORMATION CONTACT: Laura Hansen, Fishery Management Specialist, 978-281-9225, Laura.Hansen@noaa.gov.

SUPPLEMENTARY INFORMATION: The Commercial Fisheries Research Foundation (CFRF) submitted a complete application for an Exempted Fishing Permit (EFP) on March 8, 2019, to conduct fishing activities that the regulations would otherwise restrict. The EFP would authorize seven vessels to collect up to 480 female lobsters of different size classes including egg-bearing and v-notched lobsters. The participating vessels are currently authorized to use up to three ventless traps per trawl under a separate EFP. The modifications to a conventional lobster trap include a closed escape vent, single parlor, and smaller mesh size and entrance head, all to allow for the capture of undersized lobster.

Funding for this study has been awarded through the Atlantic States Marine Fisheries Commission. For this research, CFRF is requesting exemptions from the following Federal lobster regulations:

1. Possession restrictions in §§ 697.20(a), 697.20(d), and 697.20(g) to allow for retention of undersized, v-notched, and egg-bearing lobsters.

2. Dealer requirements in § 697.7(c)(1)(xviii), to allow the sale of lobsters to a research organization that is not a Federally permitted dealer.

If the EFP is approved, this research would take place from May to August, 2019. The participating vessels would be authorized to collect 240 female lobsters from both statistical areas 537 and 562. Twenty female lobsters would be collected from 12 distinct size bins, ranging from 53-113mm. Five vessels would sample in statistical area 537 and two would sample in statistical area 562. No more than 40 of the retained lobsters would be v-notched. Lobsters collected for the study would be identified with a different color band than the retained portion of their catch and transported by CFRF staff to the Massachusetts Division on Marine Fisheries laboratory for holding prior to dissection. Vessels would be compensated by CFRF for the female lobsters.

If approved, the applicant may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 11, 2019.
Alan D. Risenhoover,
Director, Office of Sustainable Fisheries, National Marine Fisheries Service.

[FR Doc. 2019-07575 Filed 4-15-19; 8:45 am]

BILLING CODE 3510-22-P